DEPARTMENT OF AGRICULTURE

Forest Service

Wallowa-Whitman National Forest; Oregon; Notice of Intent To Prepare a Supplement to the 2010 Final Environmental Impact Statement for Wallowa-Whitman National Forest Invasive Plants Treatment

AGENCY: Forest Service, USDA.

ACTION: Notice of intent to prepare a supplemental environmental impact statement.

SUMMARY: The USDA Forest Service will prepare a Supplement to the Wallowa-Whitman National Forest Invasive Plants Treatment Final Environmental Impact Statement (EIS) to address deficiencies identified by Judge Simon, United States District Court, District of Oregon, in League of Wilderness Defenders/Blue Mountains Biodiversity Project v. United States Forest Service & Connaughton (Case 3:10-cv-01397-SI). Specifically, the court found the March 2010 Final EIS to be deficient regarding analysis of cumulative impacts of the proposed action.

FOR FURTHER INFORMATION CONTACT: Dea Nelson, Environmental Coordinator, Wallowa-Whitman National Forest, P.O. Box 907, Baker City, OR 97814; or, 541-523-1316; or, dnelson09@fs.fed.us.

Individuals who use telecommunication devices for the deaf (TDD) may call the Federal Information Relay Service (FIRS) at 1-800-877-8339 between 8 a.m. and 8 p.m., Eastern Time, Monday through Friday.

SUPPLEMENTARY INFORMATION: In March 2010, the Final EIS for the Wallowa-Whitman National Forest Invasive Plants Treatment was completed. A Record of Decision was signed on April 2, 2010. These documents, which include descriptions of the purpose and need for the project and the proposed action, can be found at http://www.fs.usda.gov/detail/wallowa-whitman/landmanagement/planning/?cid=stelprdb5192845. The supplemental EIS will provide additional information and analysis regarding cumulative impacts. A draft supplemental EIS is estimated to be available in August 2013, and the final in January 2014.

Responsible Official

Wallowa-Whitman Forest Supervisor.

Nature of Decision To Be Made

The Responsible Official will decide whether or not to incorporate the supplemental analysis into the FEIS. The Responsible Official will also document the decision and reasons for the decision in a new record of decision consistent with the scope of the supplement. This decision will be subject to Forest Service appeal regulations (36 CFR part 215).

Scoping Process

Scoping is not required for supplements to environmental impact statements (40 CFR 1502.9(c)(4)). Scoping was conducted for the original EIS. The supplement will be subject to notice and comment. A draft supplemental EIS will be published and made available for review and comment for 45 days, following direction at 36 CFR part 215.

Dated: January 23, 2013.
John Laurence,
Forest Supervisor.

[FR Doc. 2013-01955 Filed 1-29-13; 8:45 am]

BILLING CODE 3410-11-P